DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission, DOE.

DATE AND TIME: March 21, 2013, 10:00 a.m.

PLACE: Room 2C, 888 First Street NE., Washington, DC 20426.

STATUS: Open.

MATTERS TO BE CONSIDERED: Agenda

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

992nd—Meeting: Regular Meeting
[March 21, 2013, 10:00 a.m.]
Item No | Docket No. | Company
Administrative
A-1 | AD02-1-000 | Agency Business Matters.
A-2 | AD02-7-000 | Customer Matters, Reliability, Security and Market Operations.
A-3 | AD12-12-000 | Coordination Between Natural Gas and Electricity Markets.
ELECTRIC
E-1 | ER13-198-000 | PJM Interconnection, L.L.C.
| ER13-195-000 | Indicated PJM Transmission Owners.
| ER13-90-000 | PJM Interconnection, L.L.C. and Public Service Electric and Gas Company.
E-2 | ER13-187-000 | Midwest Independent Transmission System Operator, Inc. and the MISO Transmission Owners.
| ER13-187-001 |
| ER13-186-000 |
| ER13-89-000 | MidAmerican Energy Company.
| ER13-101-000 | American Transmission Company LLC.
| ER13-101-001 |
| ER13-84-000 | Cleco Power LLC.
| ER13-95-000 | Entergy Arkansas, Inc.
E-3 | ER13-75-000 | Public Service Company of Colorado.
| ER13-77-000 | Tucson Electric Power Company.
| ER13-78-000 | UNS Electric, Inc.
| ER13-79-000 | Public Service Company of New Mexico.
| ER13-82-000 | Arizona Public Service Company.
| ER13-91-000 | El Paso Electric Company.
| ER13-96-000 | Black Hills Power, Inc.
| ER13-97-000 | Black Hills Colorado Electric Utility Company, LP.
| ER13-105-000 | NV Energy, Inc.
| ER13-120-000 | Cheyenne Light, Fuel and Power Company.
E-4 | ER12-1179-002 | Southwest Power Pool, Inc.
E-5 | RM12-4-000 | Revisions to Reliability Standard for Transmission Vegetation Management.
E-6 | RM12-19-000 | Revisions to Modeling, Data, and Analysis Reliability Standard
E-7 | RD12-3-000 | North American Electric Reliability Corporation
E-8 | ER13-780-002 | New York Independent System Operator, Inc.
E-9 | EL05-121-008 | PJM Interconnection, L.L.C.
E-10 | EL00-66-016 | Louisiana Public Service Commission and the Council of the City of New Orleans v. Entergy Corporation
| EL00-66-017 |
| EL95-33-011 | Louisiana Public Service Commission v. Entergy Services, Inc.
E-11 | RD12-5-000 | North American Electric Reliability Corporation.
E-12 | EL11-39-002 | Gregory R. Swecker and Beverly F. Swecker v. Midland Power Cooperative and State of Iowa.
E-13 | ER10-2156-002 | Consumers Energy Company.
| ER12-420-001 |
GAS
G-1 | RP10-729-000 | Portland Natural Gas Transmission System.
G-2 | RP08-306-002 | Portland Natural Gas Transmission System.
G-3 | RM12-14-000 | Annual Charge Filing Procedures for Natural Gas Pipelines.
G-4 | OR12-17-000 | High Prairie Pipeline, LLC Complainant v. Enbridge Energy, Limited Partnership, Respondent.
G-5 | OR13-6-000 | Enbridge Pipelines (North Dakota) LLC.
G-6 | OR13-10-000 | Seaway Crude Pipeline Company LLC.
G-7 | RP13-313-000 | Essar Steel Minnesota, LLC v. Great Lakes Gas Transmission Limited Partnership.
HYDRO
H-1 | P-1975-101 | Idaho Power Company.
| P-1975-102 |
| P-2061-085 |
| P-2061-086 |
H-2 | EL13-24-000 | Power Site Reservation Fees Group.
| P-2114-256 | Public Utility District No. 2 of Grant County, Washington.
| P-2145-115 | Public Utility District No. 1 of Chelan County, Washington.
| P-2157-209 | Public Utility District No. 1 of Snohomish County, Washington.
| P-2305-040 | Sabine River Authority of Texas.
| P-2307-063 | Alaska Electric Light and Power Company.
| P-2818-024 | City and Borough of Sitka, Alaska.
| P-2911-036 | Southeast Alaska Power Agency.
| P-3015-013 |
| P-14241-003 | Alaska Energy Authority.
CERTIFICATES
C-1 | OMITTED |
C-2 | OMITTED |
C-3 | CP06-407-007 | Missouri Interstate Gas, LLC. Missouri Gas Company, LLC. Missouri Pipeline Company, LLC.

Issued March 14, 2013.
Kimberly D. Bose,
Secretary.

A free webcast of this event is available through www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-06348 Filed 3-15-13; 11:15 am]

BILLING CODE 6717-01-P